DEPARTMENT OF AGRICULTURE

Submission for OMB Review; Comment Request

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 11, 2023 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Food Safety and Inspection Service

Title: State Meat and Poultry Inspection Programs.

OMB Control Number: 0583-0170.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451, et seq.) These statutes mandate that FSIS protect the public by ensuring that meat and poultry products are safe, wholesome, and properly labeled and packaged.

Need and Use of the Information: FSIS collects information from federally-assisted State Meat and Poultry Inspection (MPI) programs to ensure that their programs operate in a manner that is at least equal to FSIS's Federal inspection program in the protection of public interest; comply with requirements of Federal Civil Rights laws and regulations; meet necessary laboratory quality assurance standards and testing frequencies; and have the capability to perform microbiology and food chemistry methods that are “at least equal to” methods performed in FSIS laboratories.

Under a cooperative agreement with FSIS, states may operate their own MPI programs provided they meet and enforce requirements “at least equal to” those imposed under the FMIA and PPIA. Twenty-seven (29) states have MPI programs that operate under a cooperative agreement with FSIS and are subject to the comprehensive state review process. There are nine review components that make up the comprehensive state review process.

Description of Respondents: State, Local or Tribal Government.

Number of Respondents: 29.

Frequency of Responses: Reporting: Annually.

Total Burden Hours: 7,051.

Food Safety and Inspection Service

Title: Laboratory Assessment Requests.

OMB Control Number: 0583-0183.

Summary of Collection: FSIS has been delegated the authority to exercise the functions of the Secretary as provided in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by ensuring that meat, poultry, and egg products are safe, wholesome, and properly labeled and packaged. As a public health regulatory agency, FSIS investigates reports of foodborne illness, contamination, and adulteration potentially associated with FSIS-regulated products. During these investigations, non-FSIS laboratories may test FSIS regulated product and share the results with FSIS. FSIS OPHS Science Staff (SciS) will review the results and associated documentation shared by the non-FSIS laboratory to determine whether FSIS will accept the results.

Need and Use of the Information: As part of the process to determine if the non-FSIS laboratory result is acceptable, the SciS lead investigator collects information from the non-FSIS laboratory and verifies that the non-FSIS laboratory can provide the appropriate certifications and documentation of accreditation, such as ISO17025, or another third-party accreditation entity covering the methods performed. The SciS lead investigator also verifies that the laboratory has submitted all the necessary information, including evidence of chain of custody, the appropriate laboratory reports with sample identification, results, and authorization by the responsible official for affirming results. The laboratory may use FSIS Form 8000-17, Evidence Receipt and Chain of Custody, to submit information to FSIS.

Description of Respondents: Business or other for-profit.

Number of Respondents: 3.

Frequency of Responses: Reporting: On occasion.

Total Burden Hours: 23.

Ruth Brown,
Departmental Information Collection Clearance Officer.

[FR Doc. 2023-14785 Filed 7-11-23; 8:45 am]

BILLING CODE 3410-DM-P